NATIONAL AERONAUTICS AND SPACE ADMINISTRATION

[Notice (01-048)]

NASA's Aerospace Technology Enterprise's 3rd Annual Turning Goals Into Reality Conference

AGENCY: National Aeronautics and Space Administration.

ACTION: Notice of meeting.

SUMMARY: NASA's Aerospace Technology Enterprise is holding its 3rd Annual Turning Goals Into Reality Conference in Washington DC. This year's theme is “Innovation in Aerospace Transportation”. Luncheon and Reception keynotes will speak to the future of our aerospace transportation system, the role of technology, and the challenges of innovation. Conference participants include industry and government leaders, futurists and technologists from across the full spectrum of the aerospace community.

The conference will be held in Washington, DC.

DATES: Tuesday, May 15, 2001, through Thursday, May 17, 2001.

ADDRESSES: The meeting locations are as follows:

—Library of Congress (Great Hall of the Thomas Jefferson Building), 101 Independence Avenue, SE., Washington, DC 20540.

—Ronald Reagan Internal Trade Center, 1300 Pennsylvania Avenue, NW., Washington, DC 20004.

—National Air and Space Museum, Independence Avenue at Sixth Street, SW., Washington, DC 20560.

—Ronald Reagan Internal Trade Center, 1300 Pennsylvania Avenue, NW., Washington, DC 20004.

FOR FURTHER INFORMATION CONTACT: Mr. Anthony M. Springer, National Aeronautics and Space Administration, 300 E Street, SW., Washington, DC 20546 (202/358-0848) or visit the conference web site for the agenda, session descriptions, speakers, and hotel information.

SUPPLEMENTARY INFORMATION: The conference is open to the public but registration is required. The conferences agenda is as follows:

—Opening Reception May 15, 2001, 6:00 p.m. to 10:00 p.m.

—Conference program and exhibits May 16, 2001, 7:00 a.m. to 6:30 p.m.

—Awards Ceremony May 16, 2001, 7:00 p.m. to 10:30 p.m.

—Conference program and exhibits May 17, 2001, 7:00 a.m. to 4:00 p.m.

Detailed conference information and electronic registration is available at: http://www.aerospace.nasa.gov/curevent/tgir/.

Anthony M. Springer,
Alliance Development Manager, National Aeronautics and Space Administration.

[FR Doc. 01-9939 Filed 4-20-01; 8:45 am]

BILLING CODE 7510-01-P